Proclamation 7485 of October 15, 2001

National School Lunch Week, 2001

By the President of the United States of America

A Proclamation

Our Nation's future depends on fulfilling the promise in our children. As parents, teachers, community activists, governmental leaders, and concerned citizens, we must strongly commit ourselves to ensuring that our young people receive the care, education, and resources they need to realize their potential.

Since 1946, the National School Lunch Program has played an important part in pursuing that goal, by serving schoolchildren nutritious, well-balanced meals. Currently, the National School Lunch Program daily provides more than 27 million lunches in more than 97,700 schools. Of the children who participate in this program, 57 percent receive their meals for free or at a reduced price. For many of them, lunch is their only meal of the day that meets recommended nutritional guidelines.

The National School Lunch Program contributes to the development of healthy eating habits among our children. The Program's Team Nutrition Initiative focuses on teaching and motivating children to make food choices that enhance their energy, growth, and potential.

The Program is vitally important to achieving our educational goals. Poorly fed children have more difficulty learning, are less attentive in class, and suffer more chronic problems, such as absenteeism and tardiness, than children who are properly nourished. By making nutritious meals available to all schoolchildren, the National School Lunch Program will help us ensure that we leave no child behind.

In recognition of the contributions of the National School Lunch Program to the health, education, and well-being of our Nation's children, the Congress, by joint resolution of October 9, 1962 (Public Law 87-780), has designated the week beginning on the second Sunday in October of each year as “National School Lunch Week” and has requested the President to issue a proclamation in observance of this week.

NOW, THEREFORE, I, GEORGE W. BUSH, President of the United States of America, do hereby proclaim October 14 through October 20, 2001, as National School Lunch Week. I call upon all Americans to join the dedicated individuals who lead child nutrition programs at the State and local levels in appropriate activities and celebrations that promote these programs.

IN WITNESS WHEREOF, I have hereunto set my hand this fifteenth day of October, in the year of our Lord two thousand one, and of the Independence of the United States of America the two hundred and twenty-sixth.

B

[FR Doc. 01-26340

Filed 10-16-01; 8:45 am]

Billing code 3195-01-P